DEPARTMENT OF JUSTICE

Notice of Lodging of First Amended and Restated Settlement Agreement Under the Comprehensive Environmental Response, Compensation and Liability Act

Notice is hereby given that on April 25, 2007 a proposed First Amended and Restated Settlement Agreement (“Amended Agreement”) in In re Armstrong World Industries, Inc., et al., Bankr. No. 00-4471, was lodged with the United States Bankruptcy Court for the District of Delaware. In this action the United States obtained a settlement, on behalf of the United States Environmental Protection Agency (“EPA”), of 19 general unsecured bankruptcy claims under Section 107(a) of the Comprehensive Environmental Response, Compensation and Liability Act (“CERCLA”), 42 U.S.C. 9607(a), against Armstrong World Industries, Inc. (“AWI”). The bankruptcy court approved the settlement agreement on October 21, 2005.

Under the proposed Amended Agreement, the parties seek to resolve an additional CERCLA claim of the United States on behalf of EPA with respect to the Berry's Creek Study Area in Bergen County, New Jersey. Under the proposed Amended Agreement, the United States is to receive an allowed general unsecured claim of $500,000 against the bankruptcy estate of AWI, in return for a covenant not to sue, contribution protection, and the designation of the Berry's Creek facility as a Liquidated Site.

The Department of Justice will receive for a period of thirty (30) days from the date of this publication comments relating to the Amended Agreement. Comments should be addressed to he Assistant Attorney General, Environment and Natural Resources Division, and either e-mailed to pubcomment-ees.enrd@usdoj.gov or mailed to P.O. Box 7611, U.S. Department of Justice, Washington, DC 20044-7611, and should refer to In re Armstrong World Industries, Inc., et al., Bankr. No. 00-4471 (Bankr. D. Del.) and DJ No. 90-11-3-07780.

The Amended Agreement may be examined at the Office of the United States Attorney, 1007 Orange Street, Suite 700, Wilmington, DE 19801. During the public comment period, the Amended Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Robert Brook,
Assistant Chief, Environmental Enforcement Section, Environment and Natural Resources Division.

[FR Doc. 07-2305 Filed 5-9-07; 8:45 am]

BILLING CODE 4410-15-M